DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. 3501 et seq.), this notice announces that the Information Collection Request (ICR) abstracted below will be submitted to the Office of Management and Budget (OMB) for review. The ICR describes the nature of the information collection and its expected burden. A Federal Register Notice with a 60-day comment period soliciting public comments on the following information collection was published on September 20, 2011 (Federal Register/Vol. 76, No. 182/pp. 58341-58342).

DATES: Submit comments to the Office of Management and Budget (OMB) on or before May 17, 2012.

ADDRESSES: Send comments to the Office of Information and Regulatory Affairs, Office of Management and Budget, 725—17th Street NW., Washington, DC 20503, Attention: Desk Officer for Department of Transportation, National Highway Traffic Safety Administration, or by email at oira_submission@omb.eop.gov, or fax: 202-395-5806.

FOR FURTHER INFORMATION CONTACT: Eric Traube at the National Highway Traffic Safety Administration, Office of Human-Vehicle Performance Research (NVS-331), Department of Transportation, 1200 New Jersey Ave. SE., Washington, DC 20590. Mr. Traube's phone number is 202-366-5673. His email address is eric.traube@dot.gov.

SUPPLEMENTARY INFORMATION:

Title: National Survey of Driver Attitudes and Opinions of Advanced In-vehicle Alcohol Detection Systems.

OMB Control Number: 2127-0669.

Type of Request: Revision.

Abstract: In a continuing effort to reduce the adverse consequences of alcohol-impaired driving, NHTSA in conjunction with the Automotive Coalition for Traffic Safety (ACTS) is undertaking research and development to explore the feasibility of, and public policy challenges associated with, use of in-vehicle alcohol detection technology. The agency believes that use of vehicle-based, alcohol detection technologies could help to significantly reduce the number of alcohol-impaired driving crashes, deaths and injuries by preventing drivers from driving while their blood alcohol concentration (BAC) is at or above the legal limit. In 2008, ACTS and NHTSA entered into a 5-Year Cooperative Agreement to “explore the feasibility, the potential benefits of, and the public policy challenges associated with a more widespread use of unobtrusive technology to prevent drunk driving.” The goal of the Driver Alcohol Detection System for Safety (DADSS) project is, through a step-by-step, data-driven process, to develop and test prototypes that may be considered for vehicle integration thereafter.

As technology development progresses and decisions are being made about best practices for integrating such technology into vehicles, NHTSA is soliciting public opinions about the proposed in-vehicle alcohol detection devices. Optimization of the effectiveness of the technology and public acceptance of it as a safety enhancement once deployed will depend on the extent to which public attitudes are taken into account during the development process. OMB previously approved focus groups with licensed drivers to provide an initial understanding of public preferences concerning advanced alcohol detection technology. In order to provide a more complete understanding of driver preferences, NHTSA is proposing to conduct a nationally representative telephone survey of drivers. Interviews would be completed with 1,000 licensed drivers randomly selected from the 50 States and the District of Columbia. The survey would be composed of both a landline sample and a smaller cell phone sample selected from separate sampling frames. The drivers would have the developing in-vehicle alcohol sensing technology systems described to them, and asked a series of questions to obtain their reactions to the systems and their possible installation in new vehicles. In conducting the telephone interviews, the interviewers would use computer-assisted telephone interviewing to reduce interview length and minimize recording errors. Each driver in the sample would be interviewed a single time. No information would be collected that could be used to identify any respondent.

NHTSA and ACTS will use the information from the proposed telephone survey in decision making regarding integration of the technology under investigation into a vehicle.

Affected Public: Randomly selected members of the general public ages 21 and older from across the United States will be surveyed by telephone. Participation by all respondents would be voluntary and anonymous.

Estimated Total Annual Burden: 256 hours 15 minutes (1,000 interviews plus 25 pilot interviews each averaging 15 minutes) would be added to the 288 hours previously approved for the focus groups, which would total 544 hours and 15 minutes.

Comments Are Invited on the Following

(i) Whether the proposed collection of information is necessary for the proper performance of the functions of the Department of Transportation, including whether the information will have practical utility;

(ii) The accuracy of the Department's estimate of the burden of the proposed information collection;

(iii) Ways to enhance the quality, utility, and clarity of the information to be collected; and

(iv) Ways to minimize the burden of the collection of information on respondents, including the use of automated collection techniques or other forms of information technology. A comment to OMB is most effective if OMB receives it within 30 days of publication of this notice.

Authority: 44 U.S.C. 3506(c)(2)(A).

Issued in Washington, DC, on April 17, 2012.
John Maddox,
Associate Administrator, Vehicle Safety Research.

[FR Doc. 2012-9158 Filed 4-16-12; 8:45 am]

BILLING CODE 4910-59-P